DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Scholarships for Disadvantaged Students Application and Performance Report (SDSPR); OMB No. 0915-0149—Revision

Abstract: The purpose of the Scholarships for Disadvantaged Students (SDS) Program is to promote diversity among health profession students and practitioners by providing funds to eligible schools to provide scholarships to full-time, financially needy students from disadvantaged backgrounds enrolled in health professions and nursing programs.

To qualify for participation in the SDS program, a school must be carrying out a program for recruiting and retaining students from disadvantaged backgrounds, including students who are members of racial and ethnic minority groups (section 737(d)(1)(B) of the PHS Act). A school must meet the eligibility criteria to demonstrate that the program has achieved success based on the number and/or percentage of disadvantaged students who graduate from the school. In awarding SDS funds to eligible schools, funding points must be given to schools based on the proportion of graduate students practicing in primary care, the proportion of underrepresented minority students, and the proportion of graduates working in medically underserved communities (section 737(c) of the PHS Act).

Information collected from the SDS application and SDS report is needed by the Department to determine whether applicant schools meet the statutory and regulatory requirements, to determine eligibility for program participation, and to establish priority points for funding. Applicant schools are requested to complete an application for each discipline or program. Data are provided on numbers of full-time student enrollment and the applicant schools' racial/ethnicity data, disadvantaged full-time enrollment by class year, full-time students graduated, full-time disadvantaged students graduated, and full-time graduates serving in Medically Underserved Communities. Numbers of full-time graduates serving in primary care must be provided only for schools of medicine, osteopathic medicine, dentistry, nursing (graduate degree program), physician assistants, dental hygiene, and mental and behavioral health.

Each school will determine the eligibility of students based on financial need and whether a student is from a disadvantaged background.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
SDS Application Program Specific form | 400 | 1 | 400 | 13 | 5,200
SDS Performance Report Form | 99 | 1 | 99 | 24 | 2,376
Total | 499 |  | 499 |  | 7,576

Dated: November 1, 2013.
Bahar Niakan,
Director, Division of Policy and Information Coordination.

[FR Doc. 2013-26692 Filed 11-6-13; 8:45 am]

BILLING CODE 4165-15-P